DEPARTMENT OF COMMERCE

National Institute of Standards and Technology

Proposed Information Collection; Comment Request; Baldrige Performance Excellence Program Team Leader Consensus and Site Visit Information Collections

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 7, 2019.

ADDRESSES: Direct all written comments to Maureen O'Reilly, Management Analyst, National Institute of Standards and Technology, 100 Bureau Drive, Gaithersburg, MD 20889-1710, (or via the internet at docpra@doc.gov).

FOR FURTHER INFORMATION CONTACT: Requests for additional information or copies of the information collection instrument and instructions should be directed to Dawn Bailey, Baldrige Performance Excellence Program, 100 Bureau Drive, Stop 1020, Gaithersburg, MD 20899, 301-975-3074, dawn.bailey@nist.gov.

SUPPLEMENTARY INFORMATION:

I. Abstract

Public Law 100-107 (The Malcolm Baldrige National Quality Improvement Act of 1987), which established the Baldrige Performance Excellence Program and its Malcolm Baldrige National Quality Award (MBNQA), stipulates that organizational applicants for the award (see OMB Control #0693-0006) receive “an intensive evaluation by a competent board of examiners which shall review the evidence submitted by the organization and, through a site visit, verify the accuracy of the quality improvements claimed.”

Per the statute, “the Director of the National Bureau of Standards shall rely upon” these examiners, as they are in essence the external workforce of the Baldrige Performance Excellence Program. Baldrige Program staff members manage and improve the award and all of its processes, but the examiners actually do the objective review of MBNQA applicants.

The Team Leader Consensus and Site Visit Surveys will be one key way that Baldrige staff members can communicate with and seek feedback from the external workforce (Baldrige Examiners). To manage these voluntary examiners (some private citizens, some government and military personnel), the Baldrige Program needs the ability to ask them of their preferences for the sector in which they will do their application review (e.g., do they want to review a health care applicant, manufacturing applicant), their availability to conduct reviews, their ability to travel on a site visit and about all of their logistical needs (e.g., dietary restrictions, cannot review an organization from a certain state due to conflicts in that state), their ability to perform particular MBNQA roles such as technical editor or team leader, their conflicts with a particular organization, etc. The Baldrige Program also needs to survey them to obtain qualitative information on performance, as being a Baldrige Examiner is a very competitive selection.

The Baldrige Program could not perform the intensive evaluation called for in the law without surveying its own workforce about their unique needs in relation to the MBNQA process (and its subprocesses). In fact, these volunteer examiners expect to be asked their preferences, as well as given the ability to give their feedback to improve processes.

II. Method of Collection

Surveys are typically conducted via email or through a secure NIST file-sharing system if any MBNQA organization-specific information needs to be shared. Surveys can also be conducted over the phone if the number of examiners who need to be asked about a particular role or need is less than about 20. Often, a personal phone call is the best way to survey a subset of examiners, as maintaining positive relationships with examiners is very important to the program.

III. Data

OMB Control Number: 0693-0079.

Form Number(s): None.

Type of Review: Extension and revision of a current information collection.

Affected Public: Individuals, including private citizens. All must be U.S. citizens (proof of citizenship is required prior to Baldrige Examiner training).

Estimated Number of Respondents: 350 per year.

Estimated Time per Response: 15 minutes.

Estimated Total Annual Burden Hours: 88 hours.

Estimated Total Annual Cost to Public: $0.

IV. Request for Comments

NIST invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-16883 Filed 8-6-19; 8:45 am]

BILLING CODE 3510-13-P